DEPARTMENT OF COMMERCE

National Oceanic and Atmospheric Administration

50 CFR Part 622

[Docket No. 0911051395-0252-02]

RIN 0648-AY32

Fisheries of the Caribbean, Gulf of Mexico, and South Atlantic; Comprehensive Ecosystem-Based Amendment 1 for the South Atlantic Region; Correction

AGENCY: National Marine Fisheries Service (NMFS), National Oceanic and Atmospheric Administration (NOAA), Commerce.

ACTION: Final rule; correction.

SUMMARY: This document contains a correction to the final rule to implement Comprehensive Ecosystem-Based Amendment 1 for the South Atlantic region that published in the Federal Register Tuesday, June 22, 2010.

DATES: This correction is effective July 22, 2010.

FOR FURTHER INFORMATION CONTACT: Scott Sandorf, 727-824-5305; fax: 727-824-5308; e-mail: scott.sandorf@noaa.gov.

SUPPLEMENTARY INFORMATION:

Need for Correction

On June 22, 2010, (75 FR 35330, June 22, 2010) an incorrect coordinate for Point 76, in § 622.35 (n)(1)(iii)(A) and an incorrect latitudinal symbol for Point 8, in § 622.35 (n)(1)(iv)(A) were published. This document corrects these coordinates.

1. On page 35333, in the first column, under § 622.35 (n)(1)(iii)(A), the Point 76 coordinate is corrected to read as follows:

§ 622.35 Atlantic EEZ seasonal and and/or area closures.

(n) * * *

(1) * * *

(iii) * * *

(A) * * *

Point | North lat. | West long.
* * * * * * * |  |
76 | 30°59′50″ | 79°42′43″
* * * * * * * |  |

2. On page 35333, in the third column, under § 622.35 (n)(1)(iv)(A), the Point 8 coordinate is corrected to read as follows:

§ 622.35 Atlantic EEZ seasonal and/or area closures.

(n) * * *

(1) * * *

(iv) * * *

(A) * * *

Point | North lat. | West long.
* * * * * * * |  |
8 | 24°10′55″ | 80°58′11″

Dated: July 6, 2010.
Eric C. Schwaab,
Assistant Administrator for Fisheries, National Marine Fisheries Service.

[FR Doc. 2010-16934 Filed 7-9-10; 8:45 am]

BILLING CODE 3510-22-S